NUCLEAR REGULATORY COMMISSION

[NRC-2022-0142]

Report to Congress on Abnormal Occurrences: Fiscal Year 2021, Dissemination of Information

AGENCY: Nuclear Regulatory Commission.

ACTION: NUREG; issuance.

SUMMARY: The U.S. Nuclear Regulatory Commission (NRC) is issuing NUREG-0090, Volume 44, “Report to Congress on Abnormal Occurrences: Fiscal Year 2021.” The report describes those events that the NRC or an Agreement State identified as abnormal occurrences (AOs) during fiscal year (FY) 2021, based on the criteria defined by the Commission. The report describes six events at Agreement State-licensed facilities and two events at NRC-licensed facilities.

DATES: NUREG-0090, Volume 44, is available August 15, 2022.

ADDRESSES: Please refer to Docket ID NRC-2022-0142 when contacting the NRC about the availability of information regarding this document. You may obtain publicly available information related to this document using any of the following methods:

• Federal Rulemaking Website: Go to https://www.regulations.gov and search for Docket ID NRC-2022-0142. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time, Monday through Friday, except Federal holidays.

FOR FURTHER INFORMATION CONTACT: Kerstun Norman, Office of Nuclear Regulatory Research, U.S. Nuclear Regulatory Commission, Washington, DC 20555-0001; telephone: 301-415-5883, email: Kerstun.Norman@nrc.gov.

SUPPLEMENTARY INFORMATION: Section 208 of the Energy Reorganization Act of 1974, as amended (Pub. L. 93-438), defines an “abnormal occurrence” as an unscheduled incident or event that the NRC determines to be significant from the standpoint of public health or safety. The FY 2021 AO report, NUREG-0090, Volume 44, “Report to Congress on Abnormal Occurrences: Fiscal Year 2021” (ADAMS Accession No. ML22213A019), describes those events that the NRC identified as AOs during FY 2021.

This report describes six events involving Agreement State licensees and two events involving NRC licensees. Seven of the AOs occurred at medical facilities and the other event occurred at the National Institute of Standards and Technology Center for Neutron Research.

The NRC identified no events at NRC-licensed facilities during FY 2021 that met the guidelines for inclusion in Appendix B, “Other Events of Interest.”

No events met the guidelines for inclusion in Appendix C, “Updates of Previously Reported Abnormal Occurrences.”

Agreement States are the 39 U.S. States that currently have entered into formal agreements with the NRC pursuant to Section 274 of the Atomic Energy Act of 1954, as amended (AEA), to regulate certain quantities of AEA-licensed material at facilities located within their borders.

The Federal Reports Elimination and Sunset Act of 1995 (Pub. L. 104-68) requires that AOs be reported to Congress annually. The full report, NUREG-0090, Volume 44, “Report to Congress on Abnormal Occurrences: Fiscal Year 2021,” is also available electronically at the NRC's public website at https://www.nrc.gov/reading-rm/doc-collections/nuregs/staff.

Dated: August 10, 2022.
For the Nuclear Regulatory Commission.
Brooke P. Clark,
Secretary of the Commission.

[FR Doc. 2022-17471 Filed 8-12-22; 8:45 am]

BILLING CODE 7590-01-P